NATIONAL SCIENCE FOUNDATION

Proposal Review Panel for Atmospheric Sciences; Notice of Meeting

In accordance with the Federal Advisory Committee Act (Pub. L. 92-463, as amended), the National Science Foundation announces the following meeting:

Name: NASA/NSF/AFOSR Space Weather Modeling (10751).

Dates: 8 a.m.-6 p.m. Monday, April 13, 2009.

8 a.m.-3 p.m. Tuesday, April 14, 2009.

Place: 4201 Wilson Blvd., Rm. 555, Stafford II, Arlington, VA 22230.

Type of Meeting: Part-open.

Contact: Dr. Therese Moretto, Program Director for the Upper Atmosphere Research Section, Division of Atmospheric Sciences, National Science Foundation; 4201 Wilson Blvd, Rm. 775, Arlington, VA 22230 (703) 292-8518.

Minutes: May be obtained from the contact person listed above.

Purpose of Meeting: To conduct a mid-term review and evaluate awards supporting the NASA/NSF/AFOSR partnership for Collaborative Space Weather Modeling.

Agenda

April 13, 2009

8 a.m.-2:45 p.m. Open—PI Project Status Presentations.

3 p.m.-4 p.m. Open—Additional questions/discussion with PIs.

4 p.m.-6 p.m. Closed—Panel deliberations, formulation of preliminary findings, comments and questions.

April 14, 2009

8 a.m.-10 a.m. Open—Panel presentation of preliminary findings, comments and questions.

10:15 a.m.-12 p.m. Open—Further discussion with project teams as needed.

1 p.m.-3 p.m. Closed -Panel final deliberations and finalizing site-visit reports.

Reason for Late Notice: Due to unforeseen scheduling complications and the necessity to proceed with the review.

Reason for Closing: The proposals being reviewed include information of a proprietary or confidential nature, including technical information; financial data, such as salaries and personal information concerning individuals associated with the proposals. These matters are exempt under 5 U.S.C. 552b(c)(4) and (6) of the Government in the Sunshine Act.

Dated: April 3, 2009.
Susanne Bolton,
Committee Management Officer.

[FR Doc. E9-7971 Filed 4-7-09; 8:45 am]

BILLING CODE 7555-01-P